NUCLEAR REGULATORY COMMISSION

[Docket No. 50-614-CP; ASLBP No. 25-991-01-CP-BD01]

Atomic Safety and Licensing Board Panel; Before Administrative Judges: Stefan R. Wolfe, Chair; Dr. David A. Smith; Nicholas G. Trikouros; In the Matter of: Long Mott Energy, LLC (Long Mott Generating Station); Memorandum and Order (Notice of Hearing)

February 18, 2026.

This proceeding concerns the March 2025 10 CFR part 50 construction permit application filed by Long Mott Energy, LLC (“LME”) to build the Long Mott Generating Station (“LMGS”) in Calhoun County, Texas, consisting of four Xe-100 high-temperature gas-cooled power reactors.¹ In response to a June 10, 2025 NRC hearing opportunity notice regarding this application,² San Antonio Bay Estuarine Waterkeeper (“Petitioner”) filed a Petition to Intervene and Request for Hearing.³

¹ See Letter from Edward Stones, LME President, to Document Control Desk, Nuclear Regulatory Commission (“NRC”), at 2 (Mar. 31, 2025) (ADAMS Accession No. ML25090A058).

² See [LME]; [LMGS]; Construction Permit Application, 90 FR 24,428 (June 10, 2025).

³ See LBP-26-01, 103 NRC __, __ (slip op. at 2) (Jan. 22, 2026).

On August 14, 2025, this Atomic Safety and Licensing Board (“Board”) was established to preside over this proceeding.⁴ Thereafter, in a January 22, 2026 issuance the Board determined that Petitioner had standing and had submitted a contention that was, in part, admissible and so admitted Petitioner as party to this proceeding.⁵

⁴ Establishment of Atomic Safety and Licensing Board, 90 FR 40,398 (Aug. 19, 2025).

⁵ LBP-26-01, 103 NRC at __ (slip op. at 60).

In light of the foregoing, and pursuant to 10 CFR 2.312, please take notice that a hearing will be conducted in this proceeding using the procedures set forth in 10 CFR part 2, subparts C and L.

During the course of this proceeding, the Board may conduct oral argument, hold prehearing conferences, and conduct evidentiary hearings.⁶ Unless the potential for the consideration of nonpublic information requires the Board to direct otherwise, the public is invited to attend any oral argument, prehearing conference, or evidentiary hearing.⁷ Notices of those sessions will be published in the Federal Register and/or made available to the public at the NRC Public Document Room (“PDR”), located at One White Flint North, 11555 Rockville Pike, Rockville, Maryland,⁸ and through the NRC website, www.nrc.gov.

⁶ See 10 CFR 2.327-2.329, 2.331, 2.1206-2.1208.

⁷ See id. § 2.328.

⁸ Information on accessing the PDR can be found at https://www.nrc.gov/reading-rm/pdr.html.

Additionally, as provided in 10 CFR 2.315(a) and in the Board's Initial Prehearing Order,⁹ any person not a party to the proceeding may submit a written limited appearance statement. Limited appearance statements, which are placed in the docket for this proceeding, provide members of the public with an opportunity to make the Board and/or the participants aware of their concerns about any matters at issue in the proceeding, particularly any concerns associated with the admitted contentions. A written limited appearance statement can be submitted at any time and should be sent to the Office of the Secretary using one of the methods prescribed below:

⁹ See Licensing Board Memorandum and Order (Initial Prehearing Order) at 8 (Aug. 28, 2025) (unpublished).

Mail to: Office of the Secretary, Attn: Rulemakings and Adjudications Staff, U.S. Nuclear Regulatory Commission, Washington, DC 20555-0001

Email to: hearing.docket@nrc.gov

In addition, a copy of the limited appearance statement should be sent to the Board's law clerk at the following email address: georgia.rock@nrc.gov.

Documents relating to this proceeding are available for public inspection at the Commission's PDR or electronically from the publicly available records component of NRC's Agencywide Documents Access and Management System (ADAMS). ADAMS, including its adjudicatory proceeding-related Electronic Hearing Docket, is accessible from the NRC website at https://www.nrc.gov/reading-rm/adams.html. Persons who do not have access to ADAMS, or who encounter problems in accessing the documents located in ADAMS, should contact the PDR reference staff by telephone at 1-800-397-4209 or by email to pdr.resource@nrc.gov.

It is so ordered.

For the Atomic Safety and Licensing Board.

Dated: February 18, 2026. Rockville, Maryland.
Stefan R. Wolfe,
Chair, Administrative Judge.

[FR Doc. 2026-03415 Filed 2-19-26; 8:45 am]

BILLING CODE 7590-01-P